NUCLEAR REGULATORY COMMISSION

[Docket No. 50-397]

Energy Northwest; WNP-2; Environmental Assessment and Finding of No Significant Impact

The U.S. Nuclear Regulatory Commission (NRC) is considering issuance of an amendment to Facility Operating License No. NPF-21, issued to Energy Northwest (the licensee), for operation of WNP-2 located in Benton County, Washington.

Environmental Assessment

Identification of the Proposed Action

The proposed action would change the name of the facility from WNP-2 to Columbia Generating Station in all applicable locations of the Facility Operating License including the licensee's technical specifications (TS). In addition, the proposed action would make editorial changes to TS Figure 4.1-1, “Site Area Boundary” modifying or deleting text associated with references to WNP-2. TS Figure 4.1-1 also identifies a building as both the “Plant Support Facility” and the “Emergency Operations Facility.” The licensee has proposed a change to delete the name “Plant Support Facility” from the figure.

The proposed action is in accordance with the licensee's application for amendment dated October 12, 2000.

The Need for the Proposed Action

The proposed action is needed to change the operating license to accurately reflect the name change of the facility from WNP-2 to Columbia Generating Station and to identify the building in TS Figure 4.1-1 with only the name “Emergency Operations Facility.”

Environmental Impacts of the Proposed Action

The NRC has completed its evaluation of the proposed action and concludes that the name change is administrative in nature and will not affect the operation of WNP-2.

The proposed action will not significantly increase the probability or consequences of accidents, no changes are being made in the types of any effluents that may be released off site, and there is no significant increase in occupational or public radiation exposure. Therefore, there are no significant radiological environmental impacts associated with the proposed action.

With regards to potential nonradiological impacts, the proposed action does not involve any historic sites. It does not affect nonradiological plant effluents and has no other environmental impact. Therefore, there are no significant nonradiological environmental impacts associated with the proposed action.

Accordingly, the NRC concludes that there are no significant environmental impacts associated with the proposed action.

Alternatives to the Proposed Action

As an alternative to the proposed action, the staff considered denial of the proposed action (i.e., the “no-action” alternative). Denial of the application would result in no change in current environmental impacts. The environmental impacts of the proposed action and the alternative action are similar.

Alternative Use of Resources

This action does not involve the use of any resources not previously considered in the Final Environmental Statement for WNP-2.

Agencies and Persons Consulted

In accordance with its stated policy, on November 1, 2000, the staff consulted with the Washington State official, Mr. Richard Crowley of the Division of Radiation Protection, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated October 12, 2000. Documents may be examined, and/or copied for a fee, at the NRC's Public Document Room, located at One White Flint North, 11555 Rockville Pike (first floor), Rockville, Maryland. Publicly available records will be accessible electronically from the ADAMS Public Library component on the NRC Web site, http:\\www.nrc.gov (the Electronic Reading Room).

Dated at Rockville, Maryland, this 30th day of November 2000.
For the Nuclear Regulatory Commission.
Stephen Dembek,
Chief, Section 2, Project Directorate IV & Decommissioning, Division of Licensing Project Management, Office of Nuclear Reactor Regulation.

[FR Doc. 00-31099 Filed 12-5-00; 8:45 am]

BILLING CODE 7590-01-P